DEPARTMENT OF COMMERCE

National Oceanic and Atmospheric Administration

[I.D. 042700A]

Marine Mammals; File No. 782-1438 and P77-4#2

AGENCY: National Marine Fisheries Service (NMFS), National Oceanic and Atmospheric Administration (NOAA), Commerce.

ACTION: Receipt of applications for amendment.

SUMMARY: Notice is hereby given that National Marine Mammal Laboratory, National Marine Fisheries Service, NOAA, 7600 Sand Point Way NE, Seattle, Washington 98115-0070; and Northeast Fisheries Science Center, National Marine Fisheries Service, NOAA, 166 Water Street, Woods Hole, MA 02546-1026, have requested an amendment to scientific research Permit No. 782-1438 and 917, respectively.

DATES: Written or telefaxed comments must be received on or before June 5, 2000.

ADDRESSES: The amendment requests and related documents are available for review upon written request or by appointment in the following offices:

File Nos. 782-1438 and P77-4#2: Permits and Documentation Division, Office of Protected Resources, NMFS, 1315 East-West Highway, Room 13705, Silver Spring, MD 20910 (301/713-2289);

File No. 782-1438: Southwest Region, National Marine Fisheries Service, NOAA, 501 West Ocean Boulevard, Suite 4200, Long Beach, CA 90802-4213 (562/980-4001);

File No. 782-1438: Alaska Region, National Marine Fisheries Service, NOAA, P.O. Box 21668, Juneau, AK 99802 (907/586-7235);

File No. P77-4#2 (Permit No. 917): Northeast Region, NMFS, One Blackburn Drive, Gloucester, MA 01930, (978/281-9250).

Written comments or requests for a public hearing on these requests should be submitted to the Chief, Permits and Documentation Division, F/PR1, Office of Protected Resources, NMFS, 1315 East-West Highway, Room 13130, Silver Spring, MD 20910. Those individuals requesting a hearing should set forth the specific reasons why a hearing on these particular amendment requests would be appropriate.

Comments may also be submitted by facsimile at (301) 713-0376, provided the facsimile is confirmed by hard copy submitted by mail and postmarked no later than the closing date of the comment period. Please note that comments will not be accepted by e-mail or other electronic media.

FOR FURTHER INFORMATION CONTACT: Ruth Johnson or Simona Roberts, 301/713-2289.

SUPPLEMENTARY INFORMATION: The subject amendment to Permit No. 782-1438 issued on May 8, 1998 (63 FR 27265) and 917 issued on May 11, 1994 (59 FR 25892), as amended April 16, 1999 (64 FR 6326), and is requested under the authority of the Marine Mammal Protection Act of 1972, as amended (16 U.S.C. 1361 et seq.), the Regulations Governing the Taking and Importing of Marine Mammals (50 CFR part 216), the Endangered Species Act of 1973, as amended (16 U.S.C. 1531 et seq.) and the regulations governing the taking, importing, and exporting of endangered and threatened species (50 CFR 222-226).

Permit No. 782-1438 authorizes the permit holder to take large and small cetaceans and incidentally harass some pinniped species during aerial surveys.

The permit holder requests authorization to amend this permit to satellite-tag, flipper tag, VHF radio/time depth recorder (TDR) suction cup-tag and biopsy sample beluga whales (Delphinapterus leucas) in Alaskan waters. Specifically, they request authority to satellite tag and flipper tag a maximum of 40 beluga whales in the Gulf of Alaska, Bristol Bay, Norton Sound, Kotzebue Sound, and Beaufort Sea; VHF/TDR suction cup tag a maximum of 30 beluga whales in the Gulf of Alaska; and biopsy sample a maximum of 90 beluga whales in the Gulf of Alaska, Bristol Bay, Norton Sound, Kotzebue Sound, and Beaufort Sea.

Permit No. 917 (File No. P77-4#2) authorizes three projects: (1) Aerial and boat surveys, biopsy sampling and photo-identification of various cetacean species during stock assessment research; (2) capture, sample, tag and release pinnipeds during pinniped stock assessment research; and (3) collection of samples from animals of the Orders Cetacea and Pinnipedia [except walrus] for deposit into a scientific collection for research.

The NMFS, Northeast Fisheries Science Center is requesting authority to extend the permit to December 31, 2000. No additional animals are requested or will be authorized.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: April 28, 2000.
Ann Terbush,
Chief, Permits and Documentation Division, Office of Protected Resources, National Marine Fisheries Service.

[FR Doc. 00-11184 Filed 5-3-00; 8:45 am]

BILLING CODE 3510-22-F